DEPARTMENT OF ENERGY

Federal Energy Regulatory Commission

[Docket No. RP00-446-000]

Columbia Gulf Transmission Company; Proposed Changes in FERC Gas Tariff

August 14, 2000.

Take notice that on August 9, 2000, Columbia Gulf Transmission Company (Columbia Gulf) tendered for filing as part of its FERC Gas Tariff, Second Revised Volume No. 1, the following revised tariff sheet, with a proposed effective date of September 8, 2000:

Fifth Revised Sheet No. 144

Columbia Gulf states that the purpose of this filing is to modify Section 4.1(c)(1) of the General Terms and Conditions (“GTC”) of its tariff to reflect a revision to the Commission's right-of-first-refusal (“ROFR”) policy set forth in Order No. 637-B, issued July 26, 2000, 92 FERC 61,062 (2000). In Order No. 637-B, the Commission clarified that long-term service agreements with negotiated rates entered into prior to the issuance of Order No. 637 are grandfathered and that the ROFR will apply at the expiration of such service agreements. Columbia Gulf has modified GTC Section 4.1(c)(1) to incorporate this clarification in its tariff.

Columbia Gulf states that copies of its filing are available for inspection at its offices at 2603 Augusta, Suite 125, Houston, Texas, 12801 Fair Lakes Parkway, Fairfax, Virginia, and 10 G Street, N.E., Suite 580, Washington, D.C., and have been mailed to all firm and interruptible customers and affected state commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-21022 Filed 8-17-00; 8:45 am]

BILLING CODE 6717-01-M